DEPARTMENT OF COMMERCE

Census Bureau

School Enrollment Report

ACTION: Proposed collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before August 2, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Matthew Christenson, U.S. Census Bureau, Room 2335, Washington DC, 20233-8800, 301-763-2385.

SUPPLEMENTARY INFORMATION

I. Abstract

Each year the U.S. Census Bureau sends the school Enrollment Report, P-4 form, to the 30 state departments of education that do not publish enrollment data early enough in the year for us to use their published reports. Information requested includes fall public and nonpublic enrollment by grade for the state and counties. In six states we collect year-end enrollment. The U.S. Census Bureau uses school enrollment data in preparing estimates of state population. State population estimates are used by dozens of Federal agencies for allocating Federal program funds, as bases for rates of occurrences, and as input for Federal surveys. State and local governments, businesses, and the general public use state population estimates for planning and other information uses.

II. Method of Collection

The School Enrollment Report, P-4 form, is mailed each spring to approximately 30 state education agencies. We request fall public and nonpublic school enrollment by grade for the states and counties. Responses are returned and reviewed on a flow basis during the summer and early fall. Data collected will be used as input for the development of population estimates. The estimates are made in November, December, and January.

III. Data

OMB Number: 0607-0459.

Form Number: P-4.

Type of Review: Regular Review.

Affected Public: State education agencies.

Estimated Number of Respondents: 30.

Estimated Time Per Response: 30 minutes.

Estimated Total Annual Burden Hours: 15 hours.

Estimated Total Annual Cost: $27.25 per hour, $409.

Respondent's Obligation: Voluntary.

Legal Authority: Title 13 U.S.C., Sections 181 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 27, 2004.
Madeleine Clayton,
Office of the Chief Information Officer.

[FR Doc. 04-12508 Filed 6-2-04; 8:45 am]

BILLING CODE 3510-07-P